FEDERAL MARITIME COMMISSION

Notice of a Meeting

Agency Holding the Meeting: Federal Maritime Commission.

Federal Register Citation of Previous Announcement: 74 FR 4746.

Previously Announced Time and Date of the Meeting: January 28, 2009-11:00 a.m.

Change: The Meeting for January 28, 2009 is canceled.

For Further Information Contact: Karen V. Gregory, Secretary, (202) 523-5725.

Karen V. Gregory,
Secretary.

[FR Doc. E9-2038 Filed 2-2-09; 8:45 am]

BILLING CODE 6730-01-M